DEPARTMENT OF COMMERCE

National Oceanic and Atmospheric Administration

RIN 0648-XF632

South Atlantic Fishery Management Council; Public Meetings

AGENCY: National Marine Fisheries Service (NMFS), National Oceanic and Atmospheric Administration (NOAA), Commerce.

ACTION: Meeting of the South Atlantic Fishery Management Council.

SUMMARY: The South Atlantic Fishery Management Council (Council) will hold meetings of the: Advisory Panel Selection Committee (Closed); Habitat Protection and Ecosystem-Based Management Committee; Southeast Data, Assessment and Review (SEDAR) Committee; Snapper Grouper Committee; Personnel Committee (Closed); Mackerel Cobia Committee; and Executive Finance Committee. There will also be meetings of the full Council. The Council will also hold two formal public comment sessions and take action as necessary.

DATES: The Council meeting will be held from 9 a.m. on Monday, September 11, 2017 until 1 p.m. on Friday, September 15, 2017.

ADDRESSES:

Meeting address: The meeting will be held at the Town & Country Inn, 2008 Savannah Highway, Charleston, SC 29407; phone: (843) 571-1000; fax: (843) 766-9444.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net. Meeting information is available from the Council's Web site at: http://safmc.net/meetings/council-meetings/.

SUPPLEMENTARY INFORMATION:

Public comment: Written comments may be directed to Gregg Waugh, Executive Director, South Atlantic Fishery Management Council (see Council address) or electronically via the Council's Web site at http://safmc.net/safmc-meetings/council-meetings/. The public comment form is open for use when the briefing book is posted to the Web site on the Friday, two weeks prior to the Council meeting (8/25/17). Comments received by close of business the Monday before the meeting (9/4/17) will be compiled, posted to the Web site as part of the meeting materials, and included in the administrative record; please use the Council's online form available from the Web site. For written comments received after the Monday before the meeting (after 9/4/17), individuals submitting a comment must use the Council's online form available from the Web site. Comments will automatically be posted to the Web site and available for Council consideration. Comments received prior to noon on Thursday, September 14, 2017 will be a part of the meeting administrative record.

The items of discussion in the individual meeting agendas are as follows:

Full Council Session, Monday, September 11, 2017, 9 a.m. Until 5 p.m.

1. The Council will hold a special session to address management measures proposed for red snapper following introductions and approval of the June 2017 Council meeting minutes. The Council will receive presentations on new red snapper data for consideration and discuss options for possibly requesting Emergency Action by NOAA Fisheries for a 2017 red snapper season. In addition, the Council will review public hearing comments and management alternatives in Amendment 43 to the Snapper Grouper Fishery Management Plan to modify the annual catch limit (ACL) for red snapper. Public comment will be accepted on options for considering an Emergency Action request and on Amendment 43.

2. The Council is scheduled to take final action to approve Amendment 43 for Secretarial Review. The Council may also approve a request for Emergency Action relative to red snapper.

AP Selection Committee, Tuesday, September 12, 2017, 8:30 a.m. Until 10 a.m. (Closed Session)

1. The Committee will review the structure of the Habitat Protection and Ecosystem-Based Management Advisory Panel and provide recommendations.

2. The Committee will review applications and provide recommendations for appointments to advisory panels.

Habitat Protection and Ecosystem-Based Management Committee, Tuesday, September 12, 2017, 10 a.m. Until 12 p.m.

1. The Committee will review, modify, and approve the Council's Essential Fish Habitat Policy Statement on Artificial Reefs and provide guidance on the draft Fishery Ecosystem Plan II Implementation Plan.

2. The Committee will receive an update on the Fishery Ecosystem Plan II Online System and a section update, an overview of the Habitat and Ecosystem Tools and Model development, discuss and provide guidance to staff.

SEDAR Committee, Tuesday, September 12, 2017, 1:30 p.m. Until 2:30 p.m.

1. The Committee will receive a report from the Scientific and Statistical Committee (SSC) on the proposed Research Track Process for conducting stock assessments and provide guidance to staff.

2. The Committee will receive an update on the status of a joint Marine Recreational Information Program (MRIP) Workshop between the South Atlantic and Gulf of Mexico Fishery Management Councils and provide guidance to staff.

3. The Committee will also discuss guidance to the SEDAR Steering Committee as appropriate and provide direction to staff.

Snapper Grouper Committee, Tuesday, September 12, 2017, 2:30 p.m. Until 5:30 p.m. and Wednesday, September 13, 2017 From 8:30 a.m. Until 4 p.m.

1. The Committee will receive updates from NOAA Fisheries on commercial catches versus quotas for species under ACLs and the status of amendments under formal Secretarial review.

2. The Committee will receive an overview of Vision Blueprint Regulatory Amendment 26 addressing recreational management actions and alternatives and Vision Blueprint Regulatory Amendment 27 addressing commercial management actions and alternatives, as identified in the 2016-2020 Vision Blueprint for the Snapper Grouper Fishery. The Committee will modify the documents as necessary and provide guidance to staff.

3. The Committee will receive an update from Council staff on the Commercial Fishery Socio-economic Characterization/Portfolio analysis currently underway.

4. The Committee will review projections for red grouper, review management options and provide guidance to staff on development of an amendment to address management needs.

5. The Committee will discuss an amendment to address the Control Rule for Acceptable Biological Catch (ABC Control Rule Amendment) and possible adjustments to accountability measures for various management plans, discuss, and provide direction to staff.

6. The Committee will receive an update on the Wreckfish Individual Transferable Quota (ITQ) review, including a report from a recent meeting of shareholders, and provide guidance to staff.

7. The Committee will address Atlantic coast-wide issues, including coast-wide plans to address climate change. This includes a review of state-by-state regulations for snapper grouper species in the Greater Atlantic Region and data collection and monitoring efforts. The Committee will discuss working with the Mid-Atlantic Fishery Management Council to have them work with the states north of North Carolina to implement complementary regulations for snapper grouper species occurring in the Mid-Atlantic.

Formal Public Comment, Wednesday, September 13, 2017, 4:30 p.m.—Public comment will be accepted on items on the Council agenda. The Council Chair, based on the number of individuals wishing to comment, will determine the amount of time provided to each commenter.

Personnel Committee (Closed), Thursday, September 14, 2017, 8 a.m. Until 9 a.m.

1. The Committee will conduct the performance review for the Executive Director.

Mackerel Cobia Committee, Thursday, September 14, 2017, 9 a.m. Until 12 p.m.

1. The Committee will receive an update on commercial catches versus quotas for species managed under ACLs and an update on the status of amendments currently under Secretarial review.

2. The Committee will also receive an update on the status of a request for recalculation of the 2015 and 2016 recreational landings for Atlantic cobia, discuss and provide direction to staff.

3. The Committee will receive an update on development of the Interstate Atlantic Cobia Management Plan from the Atlantic States Marine Fisheries Commission (ASMFC) and updates from states on the 2017 Atlantic cobia season. The Committee will review public scoping comments on draft Amendment 31 to the Coastal Migratory Pelagic Fishery Management Plan (FMP) addressing complementary management of Atlantic cobia with ASMFC or removal from the FMP. The Committee will provide guidance to staff.

4. The Committee will receive an overview of Atlantic king mackerel trip limits, discuss, and provide guidance to staff.

Executive Finance Committee, Thursday, September 14, 2017, 1:30 p.m. Until 4 p.m.

1. The Committee will receive a report from the August 2017 webinar meeting of the Executive Finance Committee and provide guidance as necessary.

2. The Committee will review the South Atlantic Regional Operations Agreement and the Council Follow-up and Priorities documents and provide guidance to staff.

3. The Committee will discuss options for an advisory panel/workgroup for the System Management Plan for the Council's managed areas and take action as necessary.

4. The Committee will discuss materials available for Council meetings and provide guidance to staff.

Council Session: Thursday, September 14, 2017, 4 p.m. Until 5 p.m. and Friday, September 15, 2017, 8:30 a.m. Until 1 p.m. (Partially Closed Session if Needed)

The Full Council will reconvene beginning on Thursday afternoon with a Call to Order, adoption of the agenda, announcements and introductions, presentation of the Law Enforcement Officer of the Year award, and election of a new Council Chair and Vice-Chair.

The Council will receive a Legal Briefing on Litigation from NOAA General Counsel (if needed) during Closed Session. The Council will receive the Executive Director's Report, an update on the Council's Citizen Science Program, and an overview of the economic value of South Atlantic fisheries. The Council will also receive reports from NOAA Fisheries on the status of commercial and recreational catches versus ACLs for species not covered during an earlier committee meeting, status of the South Atlantic For-Hire Amendment, status of Bycatch Collection Programs, landings of dolphin fish caught with pelagic longline gear by vessel permit type, and the status of commercial electronic logbook reporting. The Council will review any Exempted Fishing Permits received by NOAA Fisheries as necessary. The Council will receive Committee reports from the Advisory Panel Selection, Habitat and Ecosystem-Based Management, SEDAR, Snapper Grouper, Mackerel Cobia, and Executive Finance Committees, review recommendations, and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: August 22, 2017.
Tracey L. Thompson,
Acting Deputy Director, Office of Sustainable Fisheries, National Marine Fisheries Service.

[FR Doc. 2017-18048 Filed 8-24-17; 8:45 am]

BILLING CODE 3510-22-P